DEPARTMENT OF THE TREASURY

Community Development Financial Institutions Fund

Proposed Collection; Comment Request

ACTION: Notice and request for comments.

SUMMARY: The U.S. Department of the Treasury, as part of its continuing effort to reduce paperwork and respondent burden, invites the general public and other Federal agencies to take this opportunity to comment on proposed information collections, as required by the Paperwork Reduction Act of 1995, Public Law 104-13 (44 U.S.C. 3506(c)(2)(A)). Currently, the Community Development Financial Institutions (CDFI) Fund, Department of the Treasury, is soliciting comments concerning the Capital Magnet Fund (CMF) Environmental Review Notification Report (ERNR).

DATES: Written comments should be received on or before June 14, 2011 to be assured of consideration.

ADDRESSES: Direct all comments to David Dworkin, Program Manager, Community Development Financial Institutions Fund, U.S. Department of the Treasury, 601 13th Street, NW., Suite 200 South, Washington, DC 20005, by e-mail to cdfihelp@cdfi.treas.gov or by facsimile to (202) 622-7754. This is not a toll free number.

FOR FURTHER INFORMATION CONTACT: The CMF Environmental Review Notification Report may be obtained from the CMF page of the CDFI Fund's Web site at http://www.cdfifund.gov. Requests for additional information should be directed to David Dworkin, Program Manager, Community Development Financial Institutions Fund, U.S. Department of the Treasury, 601 13th Street, NW., Suite 200 South, Washington, DC 20005, or call (202) 622-6355. This is not a toll free number.

SUPPLEMENTARY INFORMATION: Title: Capital Magnet Fund Environmental Review Notification Report.

Abstract: The purpose of the CMF is to competitively award grants to certified CDFIs and qualified nonprofit housing organizations to finance affordable housing and related community development projects. The CMF was authorized in July of 2008 under Section 1339 of the Housing and Economic Recovery Act of 2008 (Pub. L. 110-289), and $80 million was appropriated for this initiative under the Consolidated Appropriations Act of 2010 (Pub. L. 111-117). Successful CMF Applicants who receive awards must enter into assistance agreements with the CDFI Fund. The assistance agreement will set forth certain required terms and conditions of the award, including reporting and data collection requirements. The assistance agreement also requires the awardee to complete and submit the ERNR each time the awardee identifies a new CMF project for which (i) a categorical exclusion does not apply, or (ii) the awardee determines that the proposed project does involve actions that normally require an Environmental Impact Statement; as described in the CDFI Fund Environmental Quality Regulations (12 CFR part 1815). The ERNR will assist the CDFI Fund in determining whether additional environmental review is necessary for the proposed CMF project, as mandated by 12 CFR Part 1815.

Current Actions: New collection.

Type of Review: Regular Review.

Affected Public: Capital Magnet Fund Awardees.

Estimated Number of Respondents: 20.

Estimated Annual Time per Respondent: 4 hours.

Estimated Total Annual Burden Hours: 80 hours.

Requests For Comments: Comments submitted in response to this notice will be summarized and/or included in the request for Office of Management and Budget approval. All comments will become a matter of public record and will be published on the CDFI Fund Web site at http://www.cdfifund.gov. Comments are invited on: (a) Whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology; and (e) estimates of capital or start-up costs and costs of operation, maintenance, and purchase of services to provide information.

Authority: Pub. L. 110-289.

Dated: April 8, 2011.
Donna Gambrell,
Director, Community Development Financial Institutions Fund.

[FR Doc. 2011-9205 Filed 4-14-11; 8:45 am]

BILLING CODE 4810-70-P